DEPARTMENT OF DEFENSE

GENERAL SERVICES ADMINISTRATION

NATIONAL AERONAUTICS AND SPACE ADMINISTRATION

48 CFR Chapter 1

[Docket No. FAR 2014-0052, Sequence No. 6]

Federal Acquisition Regulation; Federal Acquisition Circular 2005-78; Small Entity Compliance Guide

AGENCY: Department of Defense (DoD), General Services Administration (GSA), and National Aeronautics and Space Administration (NASA).

ACTION: Small Entity Compliance Guide.

SUMMARY: This document is issued under the joint authority of DOD, GSA, and NASA. This Small Entity Compliance Guide has been prepared in accordance with section 212 of the Small Business Regulatory Enforcement Fairness Act of 1996. It consists of a summary of the rules appearing in Federal Acquisition Circular (FAC) 2005-78, which amends the Federal Acquisition Regulation (FAR). An asterisk (*) next to a rule indicates that a regulatory flexibility analysis has been prepared. Interested parties may obtain further information regarding these rules by referring to FAC 2005-78, which precedes this document. These documents are also available via the Internet at http://www.regulations.gov.

DATES: November 25, 2014.

FOR FURTHER INFORMATION CONTACT: For clarification of content, contact the analyst whose name appears in the table below. Please cite FAC 2005-78 and the FAR case number. For information pertaining to status or publication schedules, contact the Regulatory Secretariat at 202-501-4755.

Rules Listed in FAC 2005-78
Item | Subject | FAR case | Analyst
* I | Incorporating Section K in Contracts | 2014-001 | Glover.
II | Streamlining Claims Processing | 2014-011 | Loeb.
* III | Year Format | 2014-006 | Loeb.
* IV | Higher-Level Contract Quality Requirements | 2012-032 | Loeb.
V | Technical Amendments.

SUPPLEMENTARY INFORMATION: Summaries for each FAR rule follow. For the actual revisions and/or amendments made by these rules, refer to the specific item numbers and subjects set forth in the documents following these item summaries. FAC 2005-78 amends the FAR as specified below:

Item I—Incorporating Section K in Contracts (FAR Case 2014-001)

This final rule revises the language at FAR subpart 4.12, Representations and Certifications, and adds a new clause at FAR 52.204-19 to standardize the incorporation by reference of representations and certifications in contracts regardless of which contract award form is used. FAR clause 52.212-4 has a new paragraph (v) to cover this issue for commercial items.

Peer reviews and procurement management reviews have found that Section K—Representations and Certifications are inconsistently or not incorporated in contract awards.

This final rule does not change or impact the existing representations and certifications submitted by small entities; this final rule should have no impact on small entities.

Item II—Streamlining Claims Processing (FAR Case 2014-011)

This final rule implements the Streamlining Claims Processing for Federal Contractor Employees Act, Pub. L. 113-50, which transferred certain authority for construction wage under-payments from the Government Accountability Office to the Department of Labor. There is no effect on small businesses.

Item III—Year Format (FAR Case 2014-006)

This final rule amends the FAR to delete obsolete regulations relating to the year 2000 compliance. There is no impact on small businesses.

Item IV—Higher-Level Contract Quality Requirements (FAR Case 2012-032)

This final rule amends FAR parts 44 and 46 to (1) provide that agencies should establish procedures for determining when higher-level quality standards are to be included in a contract, (2) provide that higher-level quality standards should be given special attention during Contractor Purchasing System Reviews, and (3) adds an example of higher-level quality standards as it relates to counterfeit electronic parts. The contracting officer, in accordance with agency procedures, will choose the higher-level quality standards that will apply. These standards will be used to help minimize and mitigate counterfeit items or suspect counterfeit items in Government contracting. This rule impacts large and small businesses who provide critical items directly to the Government or to Government prime contractors.

Item V—Technical Amendments

Editorial changes are made at FAR 1.106, 16.103, 22.1006, 31.109, 52.204-8, and 53.219.

Dated: November 17, 2014.
William Clark,
Acting Director, Office of Government-wide Acquisition Policy, Office of Acquisition Policy, Office of Government-wide Policy.

[FR Doc. 2014-27663 Filed 11-24-14; 8:45 am]

BILLING CODE 6820-EP-P